DEPARTMENT OF HOMELAND SECURITY

Coast Guard

[Docket No. USCG-2011-0351]

Atlantic Coast Port Access Route Study: Port Approaches and International Entry and Departure Transit Areas

AGENCY: Coast Guard, DHS.

ACTION: Notice of study; request for comments.

SUMMARY: The Coast Guard is beginning a new study of routes used by ships to access ports on the Atlantic Coast of the United States. This new study supplements and builds on the Atlantic Coast Port Access Route Study (ACPARS) completed on April 5, 2017.

DATES: Coast Guard District Commanders will prioritize and schedule a Port Access Route Study (PARS) for specific port approaches and international transit areas associated with proposed ACPARS fairways within their areas of responsibilities (AOR). They will post these milestones on the docket by May 1, 2019. This initiative is expected to be completed by May 2021.

ADDRESSES: You may submit comments identified by docket number USCG-2011-0351 using the Federal eRulemaking Portal at https://www.regulations.gov. See the “Public Participation and Request for Comments” portion of the SUPPLEMENTARY INFORMATION section for further instructions on submitting comments.

FOR FURTHER INFORMATION CONTACT: For information about this document call or email George Detweiler, Coast Guard; telephone 202-372-1566, email George.H.Detweiler@uscg.mil.

SUPPLEMENTARY INFORMATION:

Public Participation and Comments

Public participation is essential to this study and the Coast Guard will consider all comments and material received during the comment period. We encourage you to participate by submitting comments and related materials. All comments received will be posted without change to http://www.regulations.gov and will include any personal information you have provided. You may submit your comments and material online via http://www.regulations.gov. Type “USCG-2011-0351” into the search bar and click search, next to the displayed search results click “Comment Now”, which will open the comment page. If you cannot submit your material by using https://www.regulations.gov, contact the person in the FOR FURTHER INFORMATION CONTACT section of this notice for alternate instructions. Reference documents and all public comments, will be available in our online docket at https://www.regulations.gov, and can be viewed by following that website's instructions. Type “USCG-2011-0351” into the search bar and click search, next to the displayed search results click “Open Docket Folder.” Additionally, if you visit the online docket and sign up for email alerts, you will be notified when comments are posted.

We accept anonymous comments. All comments received will be posted without change to https://www.regulations.gov and will include any personal information you have provided. For more about privacy and the docket, you may review a Privacy Act notice regarding the Federal Docket Management System in the March 24, 2005, issue of the Federal Register (70 FR 15086).

Public Meeting

You may submit a request for a public meeting online via http://www.regulations.gov. Please explain why you believe a public meeting would be beneficial. If we determine that a public meeting would aid in the study, we will hold a meeting at a time and place announced by a later notice in the Federal Register. When it is published, we will place a copy of the announcement in the docket and you will receive an email alert from www.regulations.gov.

Definitions

Fairway or shipping safety fairway means a lane or corridor in which no artificial island or fixed structure, whether temporary or permanent, will be permitted. See 33 CFR 166.105 (a).

International Entry and Departure Transit Areas mean navigation routes followed by vessels coming to or departing from the United States and an international seaport. For this study, international entry and departure transit areas will connect to recommended shipping safety fairways in the ACPARS at the outer limit of the EEZ.

Port Approaches mean navigation routes followed by vessels entering or departing a seaport from or to a primary transit route. This study will consider port approaches that connect seaports to recommended shipping safety fairways described in the ACPARS.

Discussion

The Coast Guard is beginning a new study of the port approaches and international entry and departure transit areas to ports on the Atlantic Coast of the United States. These routes are critical links of a robust and effective Marine Transportation System (MTS) and integral to efficient shipping safety fairways recommended in the Atlantic Coast Port Access Route Study (ACPARS). The ACPARS analyzed the Atlantic Coast waters seaward of existing port approaches within the U.S. Exclusive Economic Zone (EEZ) to identify navigation routes customarily followed by ships engaged in commerce between international and domestic U.S. ports. See https://navcen.uscg.gov/pdf/PARS/ACPARS_Final_Report_08Jul2015_Combined_Appendix_Enclosures_Final_After_LMI_Review.pdf. This new study is focused on routes between port approaches and international entry and departure transit areas.

The Ports and Waterways Safety Act (PWSA) (46 U.S.C. 70003(c)) requires the Coast Guard to study potential traffic density and assess the need for safe access routes for vessels. The Coast Guard coordinates with Federal and State agencies, and considers the views of the maritime community, environmental groups, and other interested stakeholders in order to reconcile the need for safe access routes with other reasonable waterway uses in the study area.

The ACPARS analyzed waters located seaward of existing port approaches within the EEZ along the entire Atlantic Coast. Automatic Identification System (AIS) data and information from stakeholders were used to identify and verify deep draft and coastwise navigation routes that are typically followed by ships engaged in commerce between international and domestic U.S. ports. Additional analysis of sea space for vessels to maneuver in compliance with the International Regulations for Preventing Collisions at Sea led to development of marine planning guidelines and recommendations for shipping safety fairways.

An analysis of potential traffic density of vessels proceeding to and from a U.S. port is referred to as a Port Access Route Study (PARS). Several PARS will examine ports along the Atlantic coast that are economically significant, support military operations or critical to national defense and related international entry and departure transit areas that are integral to the safe, efficient and unimpeded flow of commerce to/from major international shipping lanes. Similar to the ACPARS, PARS will use AIS data and information from stakeholders to identify and verify customary navigation routes as well as potential conflicts involving alternative activities, such as wind energy generation and offshore mineral exploitation and exploration.

Scope

The Coast Guard will analyze ports that are economically significant, that support military operations or are strategic for national defense along the Atlantic. This includes but is not limited to:

First Coast Guard District

Kennebec River/Bath, ME;, Port of Portland, ME;, Portsmouth, NH;, New Bedford, MA;, Port of Boston, MA;, Narragansett Bay, RI;, Long Island Sound Eastern Entrances;, Groton, CT;, New Haven Harbor, CT; and, Port of New York and New Jersey, including Port Elizabeth and Newark.

Fifth Coast Guard District

Port of Philadelphia, PA including Camden-Gloucester City, NJ, Port of Wilmington, DE and New Castle, DE;, Port of Baltimore, MD;, Port of Virginia including Norfolk, Newport News and Hampton Roads, VA;, Morehead City, NC; and, Wilmington, NC.

Seventh Coast Guard District

Port of Charleston, SC;, Port of Savannah, GA;, Brunswick, GA;, Kings Bay, GA;, Port of Jacksonville, FL;, Port Canaveral, FL;, Port Everglades, FL; and, Port of Miami, FL.

Methodology

This study will analyze navigation routes to/from the ports identified above to the proposed fairways outlined in the ACPARS as well as international routes to/from the United States. Current capabilities and planned improvements in these ports to handle maritime conveyances will be considered. Analyses will be conducted in accordance with Marine Planning to Operate and Maintain the Marine Transportation System (MTS) and Implement National Policy, COMDTINST 16003.2A, and coordinated by the cognizant District Commander. See https://media.defense.gov/2017/Mar/15/2001716995/-1/-1/0/CI_16003_2A.PDF. Notices of study will be published in the Federal Register to inform and solicit public comments for each PARS.

This notice is issued under authority of 46 U.S.C. 70003(c) and 5 U.S.C.552[ ].

Dated: March 11, 2019.
Michael D. Emerson,
Director, Marine Transportation Systems.

[FR Doc. 2019-04891 Filed 3-14-19; 8:45 am]

BILLING CODE 9110-04-P